DEPARTMENT OF TRANSPORTATION

Federal Aviation Administration

Notice of Intent To Rule on Application To Impose and Use the Revenue From a Passenger Facility Charge (PFC) at Key West International Airport, Key West, FL

AGENCY: Federal Aviation Administration (FAA), DOT.

ACTION: Notice of intent to rule on application.

SUMMARY: This correction revises information from the previously published notice.

In notice document 02-27731 appearing on page 64452, in the issue of Thursday, October 31, 2002, under Notice of Intent to Rule on Application, in the second column, in the 38th line, the PFC Application No., should read, 02-06-C-00-EYW.

In addition, under SUPPLEMENTARY INFORMATION, in the third column, in the 28th line, should read, “On October 22, 2002, the FAA determined * * *”

FOR FURTHER INFORMATION CONTACT: Susan A. Moore, Program Manager, Orlando Airports District Office, 5950 Hazeltine National Drive, Suite 400, Orlando, FL 32822, (407) 812-6331, extension 20.

Issued in Orlando, Florida on November 13, 2002.
W. Dean Stringer,
Manager, Orlando Airports District Office, Southern Region.

[FR Doc. 02-29664 Filed 11-20-02; 8:45 am]

BILLING CODE 4910-13-M